FEDERAL RESERVE SYSTEM

Change in Bank Control Notices; Acquisitions of Shares of Bank or Bank Holding Companies; Correction

This notice corrects a notice (FR Doc. 05-1047) published on page 3202 of the issue for January 21, 2005.

Under the Federal Reserve Bank of Atlanta heading, the entry for Ghomeshi Mohammad Mehdi, Miami, Florida, is revised to read as follows:

A. Federal Reserve Bank of Atlanta (Sue Costello, Vice President) 1000 Peachtree Street, N.E., Atlanta, Georgia 30303:

1. Mohammad Mehdi Ghomeshi, Miami, Florida; to acquire voting shares of Great Financial Corporation, Miami Lakes, Florida, and thereby indirectly acquire voting shares of Great Florida Bank, Miami, Florida.

Comments on this application must be received by February 2, 2005.

Board of Governors of the Federal Reserve System, January 25, 2005.
Robert deV. Frierson,
Deputy Secretary of the Board.

[FR Doc. 05-1666 Filed 1-28-05; 8:45 am]

BILLING CODE 6210-01-S